DEPARTMENT OF ENERGY

Federal Energy Regulatory Commission

[Docket Nos. RP00-468-000 and RP01-25-000]

Texas Eastern Transmission Corporation; Notice of Technical Conference

December 12, 2000.

On August 15, 2000, Texas Eastern Transmission Corporation (Texas Eastern) (Texas Eastern) filed to comply with Order No. 637. A number of parties have protested various aspect of Texas Eastern's filing. Subsequently, on October 2, 2000, Texas Eastern submitted a filing in Docket No. RP01-25-000 to comply with Order No. 587-L. The Commission accepted the 587-L filing subject to further consideration in Texas Eastern's Order No. 637 compliance proceeding.

Take notice that the technical conference to discuss the various issues raised by Texas Eastern's filing will be held on Tuesday, January 9, 2001, at 10:00 am, in a room to be designated at the offices of the Federal Energy Regulatory Commission, 888 First Street, NE., Washington, DC 20426. Parties protesting aspects of Texas Eastern's filing should be prepared to discuss alternatives.

All interested persons and Staff are permitted to attend.

David P. Boergers,
Secretary.

[FR Doc. 00-32074 Filed 12-15-00; 8:45 am]

BILLING CODE 6717-01-M